DEPARTMENT OF AGRICULTURE

Forest Service

Notice of Intent To Publish Proposed Permanent Recreational Shooting Order in the Laramie Ranger District of the Medicine Bow-Routt National Forests

AGENCY: Forest Service, Agriculture (USDA).

ACTION: Notice.

SUMMARY: The Forest Service, U.S. Department of Agriculture, is giving notice of its intent to publish for public comment a proposed permanent order prohibiting recreational shooting in the Pole Mountain Area of the Laramie Ranger District of the Medicine Bow-Routt National Forests, which covers approximately 55,000 acres in Albany County, Wyoming, from March 31 to September 10. At the end of the advance notice period, the Forest Service will seek public comments, as specified in this notice, on the proposed permanent seasonal recreational shooting order.

DATES: Advance notice of the opportunity to provide public comment on the proposed permanent seasonal recreational shooting order is being provided until April 12, 2023. Beginning on April 12, 2023, the Forest Service will accept comments on the proposed permanent seasonal recreational shooting order for 60 days. The notice of opportunity for public comment will be posted on the Medicine Bow-Routt National Forests and Thunder Basin National Grassland's web page at https://www.fs.usda.gov/alerts/mbr/alerts-notices.

ADDRESSES: The proposed permanent seasonal recreational shooting order, map and the justification for the proposed permanent order are posted on the Forest Service's Regulations and Policies web page at www.fs.usda.gov/about-agency/regulations-policies.

FOR FURTHER INFORMATION CONTACT: Frank Romero, Laramie District Ranger, 307-745-2337 or frank.e.romero@usda.gov. Individuals who use telecommunication devices for the hearing-impaired may call the Federal Relay Service at 800-877-8339, 24 hours a day, every day of the year, including holidays.

SUPPLEMENTARY INFORMATION:

Advance Notice and Public Comment Procedures

Section 4103 of the John D. Dingell, Jr. Conservation, Management, and Recreation Act of 2019 (Pub. L. 116-9, Title IV (Sportsmen's Access and Related Matters)), hereinafter “the Dingell Act,” requires the Forest Service to provide advance notice and opportunity for public comment before temporarily or permanently closing any National Forest System lands to hunting, fishing, or recreational shooting. Section 4103 of the Dingell Act applies to the proposed permanent order prohibiting recreational shooting in the Pole Mountain Area of the Laramie Ranger District in the Medicine Bow-Routt National Forests from March 31 to September 10. The public notice and comment process in section 4103(b)(2) of the Dingell Act requires the Forest Service to publish a notice of intent in the Federal Register of the proposed permanent order in advance of the public comment period for the proposed permanent order. This notice meets the requirement to publish a notice of intent in the Federal Register in advance of the public comment period.

Following the notice of intent, section 4103(b)(2) of the Dingell Act requires an opportunity for public comment on proposed temporary or permanent hunting, fishing, or recreational shooting orders. Because the proposed order would permanently prohibit recreational shooting in the Pole Mountain Area of the Laramie Ranger District of the Medicine Bow-Routt National Forests from March 31 to September 10, the public comment period must be at least 60 days. Beginning on April 12, 2023, the Forest Service will accept public comments on the proposed permanent order for 60 days. The notice of opportunity for public comment will be posted on the Medicine Bow-Routt National Forests and Thunder Basin National Grassland's web page at https://www.fs.usda.gov/alerts/mbr/alerts-notices.

Section 4103(b)(2) of the Dingell Act requires the Forest Service to respond to public comments received on the proposed permanent order before issuing a final permanent order, including an explanation of how any significant issues raised by the comments were resolved and, if applicable, how resolution of those issues affected the proposed permanent order or the justification for the proposed permanent order. The final permanent order, the justification for the final permanent order, and the response to comments on the proposed permanent order will be posted on the Medicine Bow-Routt National Forests and Thunder Basin National Grassland's web page at https://www.fs.usda.gov/alerts/mbr/alerts-notices.

Background and Need

The proposed permanent order would implement a requirement of the 2008 Allotment Management Plan Revisions for the Pole Mountain Grazing Allotments and Limiting Firearm Use Within the Pole Mountain Area Environmental Assessment (EA) and 2010 Decision Notice and Finding of No Significant Impact—Limiting Firearm Use Within the Pole Mountain Area. The proposed permanent order would prohibit discharging a firearm, air rifle, or gas gun in the Pole Mountain Area of the Laramie Ranger District of the Medicine Bow-Routt National Forests from March 31 to September 10 to address public safety and natural resource concerns. Land management plan direction does not limit recreational shooting in any other locations of the Medicine Bow-Routt National Forests.

The proposed permanent order and the justification for the proposed permanent order are posted on the Forest Service's Regulations and Policies web page at www.fs.usda.gov/about-agency/regulations-policies.

Dated: March 29, 2023.
Gregory Smith,
Associate Deputy Chief, National Forest System.

[FR Doc. 2023-06908 Filed 4-4-23; 8:45 am]

BILLING CODE 3411-15-P